DEPARTMENT OF COMMERCE

National Oceanic and Atmospheric Administration

Public Hearing on the Draft Programmatic Environmental Impact Statement and Draft Management Plan for the Proposed Mission-Aransas National Estuarine Research Reserve in Texas

AGENCY: The Estuarine Reserves Division, Office of Ocean and Coastal Resource Management, National Ocean Service, National Oceanic and Atmospheric Administration, U.S. Department of Commerce.

ACTION: Public Hearing Notice.

SUMMARY: Notice is hereby given that the Estuarine Reserves Division of the Office of Ocean and Coastal Resource Management (OCRM), National Ocean Service (NOS), National Oceanic and Atmospheric Administration (NOAA), U.S. Department of Commerce, will hold two public hearings for the purpose of receiving comments on the Draft Programmatic Environmental Impact Statement and Draft Management Plan (DPEIS/DMP) prepared on the proposed designation of the Mission-Aransas National Estuarine Research Reserve in Texas. The DPEIS/DMP addresses research, monitoring, education and resource protection needs for the proposed reserve.

The Estuarine Reserves Division will hold two public hearings, the first hearing at 10:30 a.m. on November 9th, Hearing Room E1.012 in the Capital Extension, Texas State Capital, 1400 Congress Ave., Austin, TX 78701. A second hearing will be held at 4 p.m. on November 10, Saltwater Pavilion, 810 Seabreeze Drive, Rockport Beach Park, Rockport, TX 78383.

The views of interested persons and organizations on the adequacy of the DPEIS/DMP are solicited, and may be expressed orally and/or in written statements. Presentations will be scheduled on a first-come, first-heard basis, and may be limited to a maximum of five (5) minutes. The time allotment may be extended before the hearing when the number of speakers can be determined. All comments received at the hearing will be considered in the preparation of the Final Environmental Impact Statement (FEIS) and Final Management Plan.

The comment period for the DPEIS/DMP will end on November 23rd, 2005. All written comments received by this deadline will be considered in the preparation of the FEIS.

FOR FURTHER INFORMATION CONTACT: Ms. Laurie McGilvray (301) 713-3155 extension 158, Estuarine Reserves Division, Office of Ocean and Coastal Resource Management, National Ocean Service, NOAA, 1305 East West Highway, N/ORM2, Silver Spring, MD 20910. Copies of the Draft Environmental Impact Statement/Draft Management Plan are available upon request to the Estuarine Reserves Division.

Federal Domestic Assistance Catalog Number 11.420 (Coastal Zone Management) Research Reserves

Dated: October 11, 2005.
Eldon Hout,
Director, Office of Ocean and Coastal Resource Management.

[FR Doc. 05-20848 Filed 10-17-05; 8:45 am]

BILLING CODE 3510-08-P